DEPARTMENT OF THE INTERIOR

National Park Service

[2253-665]

Notice of Intent To Repatriate Cultural Items: Yale Peabody Museum of Natural History, New Haven, CT

AGENCY: National Park Service, Interior.

ACTION: Notice.

SUMMARY: The Yale Peabody Museum of Natural History, in consultation with the appropriate Indian tribes, has determined that the cultural items meet the definition of unassociated funerary objects and repatriation to the Indian tribes stated below may occur if no additional claimants come forward. Representatives of any Indian tribe that believes itself to be culturally affiliated with the cultural items may contact the Yale Peabody Museum of Natural History.

DATES: Representatives of any Indian tribe that believes it has a cultural affiliation with the cultural items should contact the Yale Peabody Museum of Natural History at the address below by May 31, 2012.

ADDRESSES: Professor Derek E.G. Briggs, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3005, of the intent to repatriate cultural items in the possession of the Yale Peabody Museum of Natural History that meet the definition of unassociated funerary objects under 25 U.S.C. 3001.

This notice is published as part of the National Park Service's administrative responsibilities under NAGPRA, 25 U.S.C. 3003(d)(3). The determinations in this notice are the sole responsibility of the museum, institution, or Federal agency that is in possession of the Native American cultural items. The National Park Service is not responsible for the determinations in this notice.

History and Description of the Cultural Items

In 1874, six unassociated funerary objects were recovered from the area of the John Day River in Grant County, OR, by Sam H. Snook. The objects were transferred to the Yale Peabody Museum of Natural History in 1874. These objects include two stone axes, a stone pestle or hammerstone, two stone pipes, and an obsidian knife. Catalog records and historic documentation indicate that the objects were recovered from a Native American grave and therefore they meet the definition of unassociated funerary objects. The objects were recovered within the traditional territory of the Confederated Tribes of the Umatilla Indian Reservation, Oregon, and the Confederated Tribes of the Warm Springs Reservation of Oregon (hereafter referred to as “The Tribes”).

In 1880, a Mr. Warfield and Leander Davis collected 108 unassociated funerary objects from the Pine Mountain area, a locality called “the cove” in Grant County, OR, and items only attributed to Grant County, OR. These objects include sixty-seven obsidian spear heads, arrowheads or similar objects; two broken pumice stones marked with red ochre; six bone arrowheads; four broken stone pipes; sixteen dentalium and other shell beads; and thirteen small items including ochre, bone carving fragments, and bone or horn fragments. Documentary evidence indicates that these objects were collected from funerary contexts and some of the obsidian objects appear to have been melted in a fire, possibly a cremation.

Based on museum catalog records of the objects, the geographic origin of the objects, and the description of the traditional territory of The Tribes, these objects are believed to be culturally affiliated with The Tribes.

Determinations Made by the Yale Peabody Museum of Natural History

Officials of the Yale Peabody Museum of Natural History have determined that:

• Pursuant to 25 U.S.C. 3001(3)(B), the 114 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Tribes.

Additional Requestors and Disposition

Representatives of any other Indian tribe that believes itself to be culturally affiliated with the unassociated funerary objects should contact Professor Derek E.G. Briggs, Director, Yale Peabody Museum of Natural History, P.O. Box 208118, New Haven, CT 06520-8118, telephone (203) 432-3752 before May 31, 2012. Repatriation of the unassociated funerary objects to The Tribes may proceed after that date if no additional claimants come forward.

The Yale Peabody Museum of Natural History is responsible for notifying The Tribes that this notice has been published.

Dated: April 26, 2012.
David Tarler,
Acting Manager, National NAGPRA Program.

[FR Doc. 2012-10496 Filed 4-30-12; 8:45 am]

BILLING CODE 4312-50-P